ENVIRONMENTAL PROTECTION AGENCY

40 CFR Part 271

[EPA-R01-RCRA-2023-0612; FRL 11619-01-R1]

Rhode Island: Final Authorization of State Hazardous Waste Management Program Revisions and Corrections

AGENCY: Environmental Protection Agency (EPA).

ACTION: Proposed action.

SUMMARY: Rhode Island has applied to EPA for final authorization of revisions to its hazardous waste program under the Resource Conservation and Recovery Act (RCRA), as amended. EPA proposes to grant final authorization to Rhode Island for these revisions by a final action, which can be found in the “Rules and Regulations” section of this Federal Register. We have explained the reasons for this authorization in the preamble to the final action. The action also corrects errors made in the State authorization citations published in the March 12, 1990, March 5, 1992, October 2, 1992, and August 9, 2002 Federal Register. Unless EPA receives written comments that oppose this authorization during the comment period, the final action will become effective on the date it establishes and EPA will not take further action on this proposal.

DATES: Send your written comments by September 30, 2024.

ADDRESSES: Submit your comments, identified by Docket ID No. EPA-R01-RCRA-2023-0612 by mail to Liz McCarthy or Joe Hayes, RCRA Waste Management and Lead Branch; Land, Chemicals, and Redevelopment Division; EPA Region 1, 5 Post Office Square, Suite 100 (Mailcode 07-1), Boston, MA 02109-3912. You may also submit comments electronically or through hand delivery/courier by following the detailed instructions in the ADDRESSES section of the final action located in the Rules section of this Federal Register.

FOR FURTHER INFORMATION CONTACT: Liz McCarthy or Joe Hayes at (617) 918-1447; (617) 918-1362, mccarthy.liz@epa.gov; Hayes.Joseph@epa.gov.

SUPPLEMENTARY INFORMATION: In the “Rules and Regulations” section of this Federal Register, EPA is authorizing the revisions by a final action. EPA did not make a proposal prior to the final action because we believe this action is not controversial and do not expect comments that oppose it. We have explained the reasons for this authorization in the preamble of the final action.

Unless EPA receives written comments that oppose this authorization during the comment period, the final action will become effective on the date it establishes, and EPA will not take further action on this proposal. If EPA receives comments that oppose the authorization, we will withdraw the final action and it will not take immediate effect. EPA will then respond to public comments in a later final action based on this proposal. You may not have another opportunity for comment. If you want to comment on this action, you must do so at this time.

David W. Cash,
Regional Administrator, U.S. EPA Region 1.

[FR Doc. 2024-19035 Filed 8-28-24; 8:45 am]

BILLING CODE 6560-50-P